FEDERAL COMMUNICATIONS COMMISSION

47 CFR Part 73

[DA 02-3170, MB Docket No. 02-58; RM-10415]

Radio Broadcasting Services; Buttonwillow and Shafter, CA

AGENCY: Federal Communications Commission.

ACTION: Final rule.

SUMMARY: At the request of American General Media of Texas, Inc., this document substitutes Channel 226A for Channel 282A at Shafter, California, and modifies the Station KCOO license to specify operation on Channel 226A. This document also allots Channel 265A to Buttonwillow, California, as a first local service. See 67 FR 52925, published August 14, 2002. The reference coordinates for the Channel 226A allotment at Shafter, California are 35-30-06 and 119-16-18. The reference coordinates for the Channel 265A allotment at Buttonwillow, California, are 35-23-56 and 119-29-52. With this action, the proceeding is terminated.

DATES: Effective December 31, 2002.

FOR FURTHER INFORMATION CONTACT: Robert Hayne, Media Bureau (202) 418-2177.

SUPPLEMENTARY INFORMATION: This is a synopsis of the Commission's Report and Order in MM Docket No. 02-58, adopted November 13, 2002, and released November 16, 2002. The full text of this decision is available for inspection and copying during normal business hours in the FCC's Reference Information Center at Portals II, CY-A257, 445 12th Street, SW., Washington, DC. The complete text of this decision may also be purchased from the Commission's copy contractor, Qualex International, Portals ll, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under California, is amended by adding Buttonwillow, Channel 265A; by removing Channel 282A, and adding Channel 226A at Shafter.

Federal Communications Commission.
John A. Karousos,
Assistant Chief, Audio Division, Media Bureau.

[FR Doc. 02-30505 Filed 12-2-02; 8:45 am]

BILLING CODE 6712-01-P